FEDERAL COMMUNICATIONS COMMISSION

47 CFR Parts 73 and 76

[MM Docket No. 98-204; DA 04-2015]

RIN 3060-AH95

Review of the Commission's Broadcast and Cable EEO Rules and Policies

AGENCY: Federal Communications Commission.

ACTION: Proposed rule; extension of time.

SUMMARY: This document grants extension of time for filing comments and reply comments. The Commission takes this action at the request of a group of participants in this proceeding to ensure that the public has sufficient time to prepare filings which would help resolve complex issues in this matter.

DATES: Comments are due July 29, 2004; reply comments are due August 9, 2004.

ADDRESSES: Federal Communications Commission, 445 12th Street, SW., Washington, DC 20554.

FOR FURTHER INFORMATION CONTACT: Lewis Pulley, Policy Division, Media Bureau, (202) 418-1450 or Lewis.Pulley@FCC.gov.

SUPPLEMENTARY INFORMATION: This is a summary of the Media Bureau's Order in MM Docket No. 98-204; DA 04-2015, adopted July 1, 2004, and released on July 2, 2004. The full text of this Order is available for inspection and copying during regular business hours in the FCC Reference Center, 445 Twelfth Street, SW., Room CY-A257, Portals II, Washington, DC 20554, and may also be purchased from the Commission's copy contractor, Best Copy and Printing, Inc., Room CY-B402, telephone (800) 378-3160, e-mail www.BCPIWEB.COM. To request materials in accessible formats for people with disabilities (electronic files, large print, audio format and Braille), send an e-mail to fcc504@fcc.gov or call the Consumer & Governmental Affairs Bureau at 202-418-0531 (voice), 418-7365 (TTY).

Synopsis of Order

1. On June 30, 2004, the National Organization for Women and four other groups (“NOW”) jointly filed a Motion for Extension of Time. NOW seeks an extension of the deadline for filing comments and reply comments responsive to the Third Report and Order and Fourth Notice of Proposed Rule Making (“3R&O”, 69 FR 34950, June 23, 2004; “4NPRM”, 69 FR 34986, June 23, 2004), in this proceeding.

2. NOW states that the additional time is necessary to enable it to devote adequate time and resources to this proceeding. NOW states that it also needs time to permit various interested parties to work together to formulate an approach that may successfully resolve the issue in this proceeding.

3. We find that the public interest would be served by granting the requested extension of the comments and reply comments deadlines. The brief extension requested will enable NOW and other parties to prepare comprehensive comments and replies that will help the Commission in its decision-making and help resolve the complex and significant public policy issues raised in this proceeding.

4. NOW's Motion for Extension of Time is granted.

5. This action is taken pursuant to delegated authority under § 0.283 of the Commission's Rules, 47 CFR 0.283.

Federal Communications Commission.
William H. Johnson,
Chief, Media Bureau.

[FR Doc. 04-16602 Filed 7-21-04; 8:45 am]

BILLING CODE 6712-01-P